FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (www.fmc.gov) or by contacting the Office of Agreements at (202) 523-5793 or tradeanalysis@fmc.gov.

Agreement No.: 011931-005.

Title: CMA CGM/Marfret Vessel Sharing Agreement.

Parties: CMA CGM S.A., CMA CGM (UK) Limited, and Compagnie Maritime Marfret S.A.

Filing Party: Draughn B. Arbona, Esq.; Senior Counsel; CMA CGM (America), LLC. 5701 Lake Wright Drive, Norfolk, VA 23502-1868

Synopsis: The amendment would decrease the frequency of the service to fortnightly. The Parties request Expedited Review.

Agreement No.: 011961-014.

Title: The Maritime Credit Agreement.

Parties Alianca Navegacao e Logistica Ltda. & Cia.; A.P. Moller-Maersk A/S trading under the name of Maersk Line; China Shipping Container Lines Co., Ltd.; CMA CGM S.A.; Companhia Libra de Navegacao; Compania Libra de Navegacion Uruguay S.A.; Compania Sud Americana de Vapores, S.A.; COSCO Container Lines Company Limited; Dole Ocean Cargo Express; Hamburg-Süd; Hanjin Shipping Co., Ltd.; Hyundai Merchant Marine Co., Ltd.; Independent Container Line Ltd.; Kawasaki Kisen Kaisha, Ltd.; Nippon Yusen Kaisha; Norasia Container Lines Limited; United Arab Shipping Company (S.A.G.); Wallenius Wilhelmsen Logistics AS; Zim Integrated Shipping Services, Ltd.

Filing Party: Wayne R. Rohde, Esq.; Cozen O'Connor; 1627 I Street NW., Suite 1100; Washington, DC 20006.

Synopsis: The amendment removes Yang Ming Transport Corp. as party to the Agreement.

Agreement No.: 012084-003.

Title: HLAG/Maersk Line Gulf-South America Slot Charter Agreement.

Parties: A.P. Moller-Maersk A/S and Hapag-Lloyd AG.

Filing Party: Joshua P. Stein; Cozen O´Connor; 1627 I Street NW., Suite 1100; Washington, DC 20006-4007.

Synopsis: The amendment would increase the slot allocation to Maersk on Hapah-Lloyd's service operated under the agreement.

Agreement No.: 012198-001.

Title: CSCL/UASC Vessel Sharing and Slot Exchange Agreement.

Parties: China Shipping Container Lines Co., Ltd. and China Shipping Container Lines (Hong Kong) Co., Ltd. (acting as a single party); and United Arab Shipping Company.

Filing Party: Patricia M. O'Neill; Blank & Rome LLP; 600 New Hampshire Ave. NW., Washington, DC 20037.

Synopsis: The Amendment eliminates the AAS2/AWS1 Service from the Agreement, and eliminates the AWS1/AAC slot swap.

Agreement No.: 012233.

Title: CSCL/UASC/YMUK Vessel Sharing and Slot Exchange Agreement—Asia and U.S. West Coast Services.

Parties: China Shipping Container Lines Co., Ltd. and China Shipping Container Lines (Hong Kong) Co., Ltd. (acting as a single party); United Arab Shipping Company (S.A.G.); and Yang Ming (UK) LTD.

Filing Party: Patricia M. O'Neill; Blank & Rome LLP; 600 New Hampshire Ave. NW., Washington, DC 20037.

Synopsis: The Agreement would authorize the Parties to share space on a service operating between the U.S. West Coast on the one hand, and ports in Asia on the other hand.

By Order of the Federal Maritime Commission.
Dated: November 29, 2013.
Karen V. Gregory,
Secretary.

[FR Doc. 2013-29013 Filed 12-3-13; 8:45 am]

BILLING CODE 6730-01-P